DEPARTMENT OF THE INTERIOR

National Park Service

Notice of Inventory Completion: University of Nebraska State Museum, University of Nebraska-Lincoln, Lincoln, NE; Correction

AGENCY: National Park Service, Interior.

ACTION: Notice; correction.

Notice is here given in accordance with provisions of the Native American Graves Protection and Repatriation Act (NAGPRA), 25 U.S.C. 3003 (5), of the completion of an inventory of human remains and associated funerary objects in the possession of the University of Nebraska State Museum, University of Nebraska-Lincoln, Lincoln, NE. The human remains and associated funerary objects were removed from Dakota, Douglas, and Stanton Counties, NE.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the number of human remains and associated funerary objects in a Notice of Inventory Completion published in the Federal Register on November 18, 1998 (FR Doc. 98-30683, page 64100). After publication, human remains and associated funerary objects were found in museum collections. This notice supercedes the previously published notice.

A detailed assessment of the human remains was made by University of Nebraska professional staff in consultation with representatives of the Omaha Tribe of Nebraska.

In 1939, human remains representing an unknown number of individuals were removed from a historic Omaha cemetery (25DK2a) in Dakota County, NE, during excavations under the direction of Stanley Bartos, Jr. Prior to November 16, 1990, the University of Nebraska State Museum and the Omaha Tribe of Nebraska agreed to repatriate all individuals and associated funerary objects from site 25DK2a. On October 3, 1991, human remains and associated funerary objects were repatriated to the Omaha Tribe. In 1994-1995, during NAGPRA inventory activity, five individuals from this site were found in the museum collections. In 1999, two additional individuals and nine associated funerary objects from site 25DK2a were found in collections. No known individuals were identified. The nine associated funerary objects are 4 thimbles; 1 glass jar of strung black, glass, tube-type trade beads; 2 strands of strung white mixed shell and glass, tube-type trade beads; 1 bag of strung black, glass, tube-type trade beads; and 1 fragment of sewn white and black, tube-type trade beads.

In 1940, human remains representing an unknown number of individuals were removed from a historic Omaha cemetery (25DK10) in Dakota County, NE, during excavations under the direction of John Champe. Prior to November 16, 1990, the University of Nebraska State Museum and the Omaha Tribe of Nebraska agreed to repatriate all individuals and associated funerary objects from sites 25DK10. On October 3, 1991, human remains and associated funerary objects were repatriated to the Omaha Tribe. In 1994-1995, and 1998, during NAGPRA inventory activity, three individuals from site 25DK10 were found in the museum collections. In 1999, one additional individual was found in the collections. No known individuals were identified. No associated funerary objects are present.

Consultations with representatives of the Omaha Tribe of Nebraska identified sites 25DK2a and 25DK10 as historic Omaha cemeteries.

In 1940, human remains representing a minimum of one individual were removed from Emil Entenmann's cornfield (25ST0) in Stanton County, NE, and acquired by the museum. No known individual was identified. In 1999, additional cultural items were identified as funerary objects associated with this individual. The eight associated funerary objects are seed, tube, glass, and bone beads.

Based on the presence of glass beads associated with the burial, the human remains have been determined to be Native American from the historic period. During the historic period, the Omaha occupied the immediate vicinity of this burial. Consultation with representatives of the Omaha Tribe of Nebraska confirms this information and attributes this burial to the Omaha people.

In 1941, human remains representing a minimum of two individuals were removed from the Maxwell site (25DK13) near Homer, NE, during excavations conducted by S. Bartos, Jr. under the direction of John L. Champe and Paul Cooper. No known individuals were identified. In 1999, during NAGPRA inventory activity, one cultural item was identified as an associated funerary object. The one associated funerary object is a tin cup.

Based on the degree of preservation and skeletal morphology, the individuals from site 25DK13 have been determined to be Native American from the historic period. Based on the apparent age of the human remains and the location of the burials, the individuals have been determined to be affiliated with the Omaha Tribe of Nebraska.

During the 1910s, human remains representing a minimum of one individual were removed during construction activity at 13th and I Streets in Omaha, NE, by Robert Gilder who donated the human remains to the University of Nebraska State Museum. No known individual was identified. No associated funerary objects are present.

Based on the condition of the human remains and copper staining on a hand phalanx, this individual has been determined to be Native American. A historic Omaha village site is located several miles to the south of the burial site. Based on the apparent age of the human remains and the location of the burial, this individual has been determined to be affiliated with the Omaha Tribe of Nebraska.

Officials of the University of Nebraska have determined that, pursuant to 25 U.S.C. 3001 (9-10), the human remains described above represent the physical remains of 15 individuals of Native American ancestry. Officials of the University of Nebraska also have determined that, pursuant to 25 U.S.C. 3001 (3)(A), the 18 objects described above are reasonably believed to have been placed with or near individual human remains at the time of death or later as part of the death rite or ceremony. Lastly, officials of the University of Nebraska have determined that, pursuant to 25 U.S.C 3001 (2), there is a relationship of shared group identity that can be reasonably traced between the Native American human remains and associated funerary objects and the Omaha Tribe of Nebraska.

Representatives of any other Indian tribe that believes itself to be culturally affiliated with the human remains and associated funerary objects should contact Priscilla Grew, NAGPRA Coordinator, University of Nebraska State Museum, 307 Morrill Hall, Lincoln, NE 68588-0338, telephone (402) 472-3779 before August 28, 2006. Repatriation of the human remains and associated funerary objects to the Omaha Tribe of Nebraska may proceed after that date if no additional claimants come forward.

The University of Nebraska is responsible for notifying the Omaha Tribe of Nebraska that this notice has been published.

Dated: July 13, 2006.
Sherry Hutt,
Manager, National NAGPRA Program.

[FR Doc. E6-12009 Filed 7-26-06; 8:45 am]

BILLING CODE 4312-50-S